DEPARTMENT OF COMMERCE

National Oceanic and Atmospheric Administration

RIN 0648-XG986

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its System Management Plan (SMP) Workgroup via webinar.

DATES: The SMP Workgroup will meet via webinar from 1 p.m. until 3 p.m. on May 16, 2019.

ADDRESSES:

Meeting address: The meeting will be held via webinar. The meeting is accessible to the public via webinar. Registration is required. Information regarding registration and other meeting information will be posted to the Council's website at: http://safmc.net/safmc-meetings/ as it becomes available.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The SMP Workgroup is an advisory group for the Council that reviews actions items, evaluates protected areas, and reviews management of protected areas recommended by the Council. The Workgroup is holding a series of meetings to discuss components of SMPs created by the Council. The Workgroup is responsible for development of a report to the Council with recommendations. Components of the report include background information on managed areas; biological and habitat monitoring; socio-economic factors; enforcement and compliance; and outreach.

During this meeting the SMP Workgroup will focus on completing a web page that will be used in outreach for Spawning Special Management Zones created in Amendment 36 to the Snapper Grouper Fishery Management Plan.

Special Accommodations

The meeting is physically accessible to people with disabilities. Requests for auxiliary aids should be directed to the Council office (see ADDRESSES) 5 days prior to the public meeting.

Note: The times and sequence specified in this agenda are subject to change.

Authority: 16 U.S.C. 1801 et seq.

Dated: April 24, 2019.
Tracey L. Thompson,
Acting Deputy Director, Office of Sustainable Fisheries, National Marine Fisheries Service.

[FR Doc. 2019-08667 Filed 4-29-19; 8:45 am]

BILLING CODE 3510-22-P